DEPARTMENT OF TRANSPORTATION

Federal Aviation Administration

14 CFR Part 97

[Docket No. 30450; Amdt. No. 3126]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 11, 2005. The compliance date for each SIAP and/or Weather Takeoff Minimums is specified in the amendatory provisions.

The incorporation by reference of certain publications listed in the regulations is approved by the Director of the Federal Register as of July 11, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on July 1, 2005.
James J. Ballough,
Director, Flight Standards Service.

Adoption of the Amendment

Accordingly, pursuant to the authority delegated to me, under title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 4 Aug 2005

Springdale, AR, Springdale Muni, RNAV (GPS) RWY 18, Amdt 1

Springdale, AR, Springdale Muni, RNAV (GPS) RWY 36, Amdt 1

Ulysses, KS, Ulysses, RNAV (GPS) RWY 17, Amdt 1

Ulysses, KS, Ulysses, RNAV (GPS) RWY 35, Amdt 1

Falls City, NE, Brenner Field, RNAV (GPS) RWY 32, Amdt 1

Kearney, NE, Kearney Muni, RNAV (GPS) RWY 18, Orig

Kearney, NE, Kearney Muni, RNAV (GPS) RWY 36, Amdt 1

Norfolk, NE, Karl Stefan Memorial, RNAV (GPS) RWY 1, Amdt 1

Norfolk, NE, Karl Stefan Memorial, RNAV (GPS) RWY 19, Amdt 1

North Platte, NE, North Platte Rgnl Airport Lee Bird Field, RNAV (GPS) RWY 12, Orig

North Platte, NE, North Platte Rgnl Airport Lee Bird Field, RNAV (GPS) RWY 30, Amdt 1

Scottsbluff, NE, Western Neb. Rgnl/William B Heilig Field, RNAV (GPS) RWY 12, Orig

Scottsbluff, NE, Western Neb. Rgnl/William B Heilig Field, RNAV (GPS) RWY 30, Orig

Scottsbluff, NE, Western Neb. Rgnl/William B Heilig Field, NDB RWY 12, Amdt 8B

Scottsbluff, NE, Western Neb. Rgnl/William B Heilig Field, GPS RWY 30, Orig, CANCELLED

New York, NY, John F Kennedy Intl, RNAV (GPS) RWY 4L, Amdt 1

New York, NY, John F Kennedy Intl, RNAV (GPS) RWY 4R, Amdt 1

New York, NY, John F Kennedy Intl, RNAV (GPS) RWY 22L, Amdt 1

New York, NY, John F Kennedy Intl, RNAV (GPS) RWY 22R, Amdt 1

New York, NY, John F Kennedy Intl, RNAV (GPS) RWY 31R, Amdt 1

New York, NY, John F Kennedy Intl, RNAV (GPS) Z RWY 31L, Amdt 1

Oklahoma City, OK, Will Rogers World, RNAV (GPS) RWY 17R, Amdt 2

Oklahoma City, OK, Will Rogers World, ILS OR LOC RWY 17R, Amdt 10

Providence, RI, Theodore Francis Green State, ILS RWY 34, Amdt 10A

Angleton/Lake Jackson, TX, Brazoria County, RNAV (GPS) RWY 17, Amdt 2

Angleton/Lake Jackson, TX, Brazoria County, RNAV (GPS) RWY 35, Amdt 2

Arlington, TX, Arlington Muni, RNAV (GPS) RWY 34, Orig

Arlington, TX, Arlington Muni, VOR/DME RWY 34, Amdt 1

Arlington, TX, Arlington Muni, GPS RWY 34, Amdt 1A, CANCELLED

Arlington, TX, Arlington Muni, VOR/DME RNAV RWY 34, Orig, CANCELLED

Brownwood, TX, Brownwood Regional, RNAV (GPS) RWY 17, Amdt 1

Brownwood, TX, Brownwood Regional, RNAV (GPS) RWY 35, Amdt 1

Houston, TX, Sugar Land Rgnl, RNAV (GPS) RWY 17, Amdt 1

Houston, TX, Sugar Land Rgnl, RNAV (GPS) RWY 35, Amdt 1

Midland, TX, Midland Intl, RNAV (GPS) RWY 28, Amdt 1

Tyler, TX, Tyler Pounds Regional, RNAV (GPS) RWY 4, Amdt 1

Tyler, TX, Tyler Pounds Regional, RNAV (GPS) RWY 22, Amdt 1

* * * Effective 1 Sep 2005

Coldfoot, AK, Coldfoot, RNAV (GPS)-A, Orig

Coldfoot, AK, Coldfoot, RNAV (GPS) RWY 1, Orig

Coldfoot, AK, Coldfoot, Takeoff Minimums and Textual Departure Procedures, Orig

Shishmaref, AK, Shishmaref, RNAV (GPS) RWY 5, Orig

Shishmaref, AK, Shishmaref, RNAV (GPS) RWY 23, Orig

Shishmaref, AK, Shishmaref, NDB RWY 5, Amdt 1

Shishmaref, AK, Shishmaref, NDB RWY 23, Amdt 1

Atlanta, GA, Cobb County—Mc Collum Field, VOR/DME RWY 9, Amdt 1A

Meade, KS, Meade Muni, NDB RWY 17, Orig, CANCELLED

Middletown, NY, Randall, RNAV (GPS) RWY 8, Orig

Middletown, NY, Randall, RNAV (GPS) RWY 26, Orig

Norman, OK, University of Oklahoma Westheimer, NDB RWY 3, Orig

Norman, OK, University of Oklahoma Westheimer, NDB RWY 35, Orig

Norman, OK, University of Oklahoma Westheimer, NDB RWY 3, Amdt 5E, CANCELLED

Oklahoma City, OK, Will Rogers World, ILS OR LOC RWY 17L, Amdt 1

* * * Effective 27 Oct 2005

Yuma, AZ, Yuma MCAS-Yuma Intl, VOR RWY 17, Amdt 5A, CANCELLED

Yuma, AZ, Yuma MCAS-Yuma Intl, VOR/DME OR TACAN-1 RWY 17, Amdt 1B, CANCELLED

Yuma, AZ, Yuma MCAS-Yuma Intl, VOR/DME RNAV RWY 21R, Amdt 4A, CANCELLED

Yuma, AZ, Yuma MCAS-Yuma Intl, ILS RWY 21R, Amdt 5A, CANCELLED

Yuma, AZ, Yuma MCAS-Yuma Intl, GPS RWY 17, Orig-B, CANCELLED

Yuma, AZ, Yuma MCAS-Yuma Intl, GPS RWY 21R, Orig-A, CANCELLED

Yuma, AZ, Yuma MCAS-Yuma Intl, Takeoff Minimums and Textual DP, Amdt 2

The FAA published an Amendment in Docket No. 30449, Amdt No. 3125 to Part 97 of the Federal Aviation Regulations (Vol 70, FR No.120, page 36336; dated June 23, 2005) under section 97.33 effective 1 Sep 2005, which is hereby rescinded:

Joplin, MO, Joplin Regional, NDB RWY 13, Amdt 25

The FAA published several Amendments in Docket No. 30449, Amdt No. 3125 to Part 97 of the Federal Aviation Regulations (Vol. 70, FR No. 120, page 36336; dated June 23, 2005) under sections 97.23; 97.29 and 97.33 effective 1 Sep 2005 which are hereby corrected to be effective for 27 Oct 2005:

Yuma, AZ, Yuma MCAS-Yuma Intl, VOR RWY 17, Amdt 5A, CANCELLED

Yuma, AZ, Yuma MCAS-Yuma Intl, VOR/DME OR TACAN-1 RWY 17, Amdt 1B, CANCELLED

Yuma, AZ, Yuma MCAS-Yuma Intl, VOR/DME RNAV RWY 21R, Amdt 4A, CANCELLED

Yuma, AZ, Yuma MCAS-Yuma Intl, ILS RWY 21R, Amdt 5A, CANCELLED

Yuma, AZ, Yuma MCAS-Yuma Intl, GPS RWY 17, Orig-B, CANCELLED

Yuma, AZ, Yuma MCAS-Yuma Intl, GPS RWY 21R, Orig-A, CANCELLED

Yuma, AZ, Yuma MCAS-Yuma Intl, Takeoff Minimums and Textual DP, Amdt 2

[FR Doc. 05-13513 Filed 7-8-05; 8:45 am]

BILLING CODE 4910-13-P